DEPARTMENT OF JUSTICE

Antitrust Division

Notice Pursuant to the National Cooperative Research and Production Act of 1993—Glazing Industry Secretariat Committee

Notice is hereby given that, on September 28, 2004, pursuant to section 6(a) of the National Cooperative Research and Production Act of 1993, 15 U.S.C. 4301 et seq. (“the Act”), Glazing Industry Secretariat Committee (“GISC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Glazing Industry Secretariat Committee, Topeka, KS. The nature and scope of GISC's standards development activities are: To function as the Secretariat with oversight and administrative responsibilities for ANSI Standard Z97.1, American National Standard for Safety Glazing Materials Used in Buildings—Safety Performance Specifications and Methods of Test, establishing the specifications and methods of tests for safety properties of safety glazing materials (glazing materials designed to promote safety and to reduce or minimize the likelihood of cutting and piercing injuries when the glazing materials are broken by human contact) as used for all building and architectural purposes.

Dorothy B. Fountain,
Deputy Director of Operations, Antitrust Division.

[FR Doc. 04-25852 Filed 11-19-04; 8:45 am]

BILLING CODE 4410-11-M